DEPARTMENT OF COMMERCE

International Trade Administration

[A-201-836]

Light-Walled Rectangular Pipe and Tube From Mexico: Final Results of Antidumping Duty Administrative Review; 2019-2020

AGENCY: Enforcement and Compliance, International Trade Administration, Department of Commerce.

SUMMARY: The Department of Commerce (Commerce) determines that sales of light-walled rectangular pipe and tube from Mexico were made at less than normal value during the period of review (POR) August 1, 2019, through July 31, 2020.

DATES: Applicable March 11, 2022.

FOR FURTHER INFORMATION CONTACT: John Conniff or Kyle Clahane, AD/CVD Operations, Office III, Enforcement and Compliance, International Trade Administration, U.S. Department of Commerce, 1401 Constitution Avenue NW, Washington, DC 20230; telephone: (202) 482-1009 or (202) 482-5449, respectively.

SUPPLEMENTARY INFORMATION:

Background

On September 7, 2021, Commerce published the preliminary results of this administrative review of the antidumping duty order on light-walled rectangular pipe and tube (LWRPT) from Mexico.¹ We invited interested parties to comment on the Preliminary Results. A summary of events that occurred since Commerce published the Preliminary Results, as well as a full discussion of the issues raised by parties for these final results, are discussed in the Issues and Decision Memorandum.² Commerce conducted this review in accordance with section 751(a) of the Tariff Act of 1930, as amended (the Act).

¹ See Light-Walled Rectangular Pipe and Tube from Mexico: Preliminary Results of Antidumping Duty Administrative Review; 2019-2020, 86 FR 50025 (September 7, 2021) (Preliminary Results), and accompanying Preliminary Decision Memorandum (PDM).

² See Memorandum, “Light-Walled Rectangular Pipe and Tube from Mexico: Issues and Decision Memorandum for the Final Results of Antidumping Duty Administrative Review; 2019-2020,” dated concurrently with, and hereby adopted by, this notice (Issues and Decision Memorandum).

Scope of the Order ³

³ See Light-Walled Rectangular Pipe and Tube from Mexico, the People's Republic of China, and the Republic of Korea: Antidumping Duty Orders; Light-Walled Rectangular Pipe and Tube from the Republic of Korea: Notice of Amended Final Determination of Sales at Less Than Fair Value, 73 FR 45403 (August 5, 2008) (Order).

The product covered by the Order is light-walled rectangular pipe and tube from Mexico. For a full description of the scope, see the Issues and Decision Memorandum.

Analysis of Comments Received

We addressed all issues raised in the case and rebuttal briefs in the Issues and Decision Memorandum.⁴ A list of the issues discussed in the Issues and Decisions Memorandum is attached in an appendix to this notice. The Issues and Decision Memorandum is a public document and is available electronically via Enforcement and Compliance's Antidumping and Countervailing Duty Centralized Electronic System (ACCESS). ACCESS is available to registered users at https://access.trade.gov. In addition, a complete version of the Issues and Decision Memorandum can be accessed directly at https://access.trade.gov/public/FRNoticesListLayout.aspx.

⁴ See Issues and Decision Memorandum.

Changes Since the Preliminary Results

Based on our analysis of the comments received from interested parties, a review of the record, and for the reasons explained in the Issues and Decision Memorandum, we made certain changes to the Preliminary Results. For detailed information, see the Issues and Decision Memorandum.

Rate for Non-Selected Companies

The Act and Commerce's regulations do not address the establishment of a weighted-average dumping margin to be applied to companies not selected for individual examination when Commerce limits its examination in an administrative review pursuant to section 777A(c)(2) of the Act. Generally, Commerce looks to section 735(c)(5) of the Act, which provides instructions for calculating the all-others rate in a less-than-fair-value (LTFV) investigation, for guidance when calculating the weighted-average dumping margin for companies which were not selected for individual examination in an administrative review. Under section 735(c)(5)(A) of the Act, the all-others rate is normally an amount equal to the weighted average of the estimated weighted-average dumping margins established for exporters and producers individually investigated, excluding rates that are zero, de minimis (i.e., less than 0.5 percent), or determined entirely on the basis of facts available.

Consistent with section 735(c)(5)(A) of the Act, we determined the weighted-average dumping margin for each of the non-selected companies based on the weighted-average dumping margins calculated for the mandatory respondents, Perfiles LM, S.A. de C.V. (Perfiles) and Regiomontana de Perfiles y Tubos S. de R.L. de C.V. (Regiopytsa) in this administrative review.⁵

⁵ See Memorandum, “Antidumping Duty Administrative Review of Light-Walled Rectangular Pipe and Tube from Mexico: Calculation of Margin for Respondents Not Selected for Individual Examination,” dated concurrently with this notice. In the case of two mandatory respondents, our practice is to calculate: (A) A weighted average of the weighted-average dumping margins calculated for the mandatory respondents using each company's business proprietary total sales value of the subject merchandise; (B) a simple average of the weighted-average dumping margins calculated for the mandatory respondents: And (C) a weighted average of the weighted-average dumping margins calculated for the mandatory respondents using each company's publicly ranged total sales value for the subject merchandise. We compare (B) and (C) to (A) and select the (B) or (C) rate that is closest to (A) as the most appropriate rate for the companies not selected for individual examination. See Certain Crystalline Silicon Photovoltaic Products from Taiwan: Final Results of Antidumping Duty Administrative Review; 2014-2016, 82 FR 31555, 31556 (July 7, 2017).

Final Results of Review

As a result of this review, Commerce determines the following weighted-average dumping margins exist for the period August 1, 2019, through July 31, 2020.

Exporter or producer | Weighted- average dumping margin (percent)
Perfiles LM, S.A. de C.V | 0.62
Regiomontana de Perfiles y Tubos S. de R.L. de C.V.⁶ | 1.09
Maquilacero S.A. de C.V | 0.96
Nacional de Acero S.A. de C.V | 0.96
Productos Laminados de Monterrey S.A. de C.V | 0.96
Ternium Mexico S.A. de C.V | 0.96

Disclosure

Commerce intends to disclose the calculations performed for these final results under administrative protective order within five days of the date of publication of this notice in the Federal Register, in accordance with 19 CFR 351.224(b).

⁶ See Light-Walled Rectangular Pipe and Tube from Mexico: Preliminary Results and Partial Rescission of Antidumping Duty Administrative Review; 2018-2019, 85 FR 83886 (December 23, 2020), and accompanying Preliminary Decision Memorandum at 6, unchanged in Light Walled Rectangular Pipe and Tube from Mexico: Final Results of Antidumping Duty Administrative Review; 2018-2019, 86 FR 33646 (June 25, 2021), where Commerce determined that Regiomontana de Perfiles y Tubos S. de R.L. de C.V. is the successor-in-interest to Regiomontana de Perfiles y Tubos S.A. de C.V. The successor is merely a revision of the type of incorporation under Mexican law that did not impact the company's ownership, management, or operations. For the current review, the petitioner's review request included both the current and former versions of Regiopytsa's company name.

Assessment Rates

Pursuant to section 751(a)(2)(C) of the Act and 19 CFR 351.212(b)(1), Commerce has determined, and U.S. Customs and Border Patrol (CBP) shall assess, antidumping duties on all appropriate entries of subject merchandise in accordance with the final results of this review. In accordance with 19 CFR 351.212(b)(1), for Perfiles and Regiopytsa, the mandatory respondents, Commerce calculated importer-specific ad valorem antidumping duty assessment rates based on the ratio of the total amount of dumping calculated for each importer's examined sales to the total entered value of those same sales. Where either a respondent's weighted-average dumping margin is zero or de minimis within the meaning of 19 CFR 351.106(c)(1), or an importer-specific assessment rate is zero or de minimis, we will instruct CBP to liquidate the appropriate entries without regard to antidumping duties.

Consistent with the reseller policy, for entries of subject merchandise during the POR produced by the mandatory respondents for which they did not know their merchandise was destined for the United States, we intend to instruct CBP to liquidate unreviewed entries at the all-others rate if there is no rate for the intermediate company(ies) involved in the transaction.⁷

⁷ See Antidumping and Countervailing Duty Proceedings: Assessment of Antidumping Duties, 68 FR 23954 (May 6, 2003).

The assessment rate for antidumping duties for each of the companies not selected for individual examination, will be equal to the weighted-average dumping margin identified above in the “Final Results of Review” section.

The final results of this review shall be the basis for the assessment of antidumping duties on entries of merchandise covered by the final results of this review and for future deposits of estimated duties, where applicable.⁸

⁸ See section 751(a)(2)(C) of the Act.

Commerce intends to issue assessment instructions to CBP no earlier than 41 days after the date of publication of the final results of this review in the Federal Register, in accordance with 19 CFR 356.8(a). If a timely summons is filed at the U.S. Court of International Trade, the assessment instructions will direct CBP not to liquidate relevant entries until the time for parties to file a request for a statutory injunction has expired (i.e., within 90 days of publication).

Cash Deposit Requirements

The following cash deposit requirements will be effective for all shipments of subject merchandise entered, or withdrawn from warehouse, for consumption on or after the publication date of the final results of this administrative review, as provided by section 751(a)(2)(C) of the Act: (1) The cash deposit rate for the companies listed above will be equal to the weighted-average dumping margin established in the final results of this administrative review; (2) for merchandise exported by producers or exporters not covered in this review but covered in a prior completed segment of the proceeding, the cash deposit rate will continue to be the relevant company-specific rate published for the most recent period; (3) if the exporter is not a firm covered in this review, a prior review, or the original investigation, but the producer has been covered in a prior complete segment of this proceeding, then the cash deposit rate will be the rate established for the most recently-completed segment for the producer of the merchandise; and (4) the cash deposit rate for all other producers or exporters will continue to be 3.76 percent,⁹ the all-others rate established in the less-than-fair-value investigation.

⁹ See Order.

These cash deposit requirements, when imposed, shall remain in effect until further notice.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order

This notice serves as the only reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

Notification to Interested Parties

We are issuing and publishing these final results of administrative review in accordance with sections 751(a)(1) and 777(i) of the Act, and 19 CFR 351.221(b)(5).

Dated: March 4, 2022.
Lisa W. Wang,
Assistant Secretary for Enforcement and Compliance.

Appendix

List of Topics Discussed in the Issues and Decision Memorandum

I. Summary

II. Background

III. Scope of the Order

IV. Changes Since the Preliminary Results

V. Discussion of the Issues

Comment 1: Perfiles' Reported Billing Adjustments

Comment 2: Cohen's d Test

Comment 3: Application of Adverse Facts Available to Perfiles' Home Market Sales

Comment 4: Production Cost of Off-Grade and Defective Products

Comment 5: Adjustment to Perfiles' Reported Coil Cost

Comment 6: Unreconciled Differences of Perfiles' Production Costs

Comment 7: Major Input Analysis

Comment 8: Application of Adverse Facts Available to Regiopytsa's Financial Expense Ratio

VI. Recommendation

[FR Doc. 2022-05211 Filed 3-10-22; 8:45 am]

BILLING CODE 3510-DS-P